DEPARTMENT OF TRANSPORTATION

Surface Transportation Board

Notice and Request for Comments

ACTION: 30-Day Notice of Information Collection Under Review: System Diagram Maps.

SUMMARY: The Surface Transportation Board (Board), as part of its continuing effort to reduce paperwork burdens, and as required by the Paperwork Reduction Act of 1995, 44 U.S.C. 3501 et seq. (PRA), has submitted a request to the Office of Management and Budget (OMB) for an extension of approval for the currently approved collection of rail system diagram maps. The Board previously published a notice about these collections in the Federal Register on July 21, 2006, at 71 FR 41513. That notice allowed for a 60-day public review and comment period. One comment was received. As pertinent here, the commenter emphasized the importance of the Board's collection of system diagram maps in providing advance notice to the public about rail service that is likely to be abandoned, especially in light of the importance of that notice to the viability of the Board's feeder-line program, 49 U.S.C. 10907, which enables shippers and communities to acquire marginal rail lines that are likely to be downgraded or abandoned.

The purpose of the current notice is to allow an additional 30 days for public comment to satisfy the requirements of the PRA, 44 U.S.C. 3507(b). Comments are sought from rail carriers that have recently filed amended or new system diagram maps (or, in the case of small carriers, the alternative narrative description of rail system), as well as from members of the shipping public who may make use of these maps, concerning (1) whether the particular collection of information is necessary for the proper performance of the functions of the Board, including whether the collection has practical utility; (2) the accuracy of the Board's burden estimates; (3) ways to enhance the quality, utility, and clarity of the information collected; and (4) ways to minimize the burden of the collection of information on the respondents, including the use of automated collection techniques or other forms of information technology when appropriate.

Description of Collection

Title: System Diagram Maps.

OMB Control Number: 2140-0003.

Form Number: None.

Type of Review: Extension without change.

Respondents: Common carrier freight railroads that are either new or reporting changes in the status of one or more of their rail lines.

Number of Respondents: 4.

Estimated Time per Response: 4.5 hours, based on average time reported in informal survey of respondents conducted in 2003.

Frequency of Response: 1.

Total Annual Burden Hours: 18 hours (4 respondents × 4.5 hours).

Total Annual “Non-Hour Burden” Cost: Range is between $.50 and $2,550, depending on size and class of carrier.

Needs and Uses: Under 49 U.S.C. 10903(c)(2) and 49 CFR 1152.10-1152.13, all rail carriers subject to the Board's jurisdiction are required to maintain, publish, and submit to the Board a complete diagram of the transportation system operated. These carriers are also required to publish and submit any amendments to their system diagram maps (SDMs) as necessary to keep the SDMs current. Under the Board's regulations, 49 CFR 1152.10(a), a Class III carrier (a carrier with assets of not more than $20 million in 1991 dollars), may submit the same information in narrative form. The information sought in this collection identifies all lines in a particular railroad's system, categorized to indicate the likelihood that service on a particular line will be abandoned and/or whether service on a line is currently provided under the financial assistance provisions of 49 U.S.C. 10904. This information constitutes advance notice to the Board and the public about likely decreases in the availability of rail service and provides a valuable planning tool for the Board and the shipping public. It facilitates informed decision making by the Board, and permits shippers and communities to participate in Board proceedings that may affect them, to submit timely proposals for continuing rail service under the feeder-line acquisition program (49 U.S.C. 10907(b)(i)), and/or to plan for alternative means of transportation.

Deadline: Persons wishing to comment on this information collection should submit comments by December 14, 2006.

ADDRESSES: Written comments should be directed to the Office of Management and Budget, Office of Information and Regulatory Affairs, Attention: Surface Transportation Board Desk Officer, Room 10235, 725 17th Street, NW., Washington, DC 20503, or to Alexander_T._Hunt@omb.eop.gov. Comments should be identified as “Paperwork Reduction Act Comments, Surface Transportation Board, System Diagram Map, OMB Control Number 2140-0003.”

FOR FURTHER INFORMATION CONTACT: A copy of the regulations pertaining to this information collection may be obtained by contacting Barbara G. Saddler at (202) 565-1656 or saddlerb@stb.dot.gov. These rules can also be found on the Board's Web site at http://www.stb.dot.gov by searching under “E-Library,” and then “Research Aids.”

SUPPLEMENTARY INFORMATION: Under the PRA, a Federal agency conducting or sponsoring a collection of information must display a currently valid OMB control number. Collection of information, which is defined in 44 U.S.C. 3502(3) and 5 CFR 1320.3(c), includes agency requirements that persons submit reports, keep records, or provide information to the agency, third parties, or the public. Section 3507(b) of the PRA requires, concurrent with an agency's submitting a collection to OMB for approval, a 30-day notice and comment period through publication in the Federal Register concerning each proposed collection of information, including each proposed extension of an existing collection of information.

Dated: November 14, 2006.
Vernon A. Williams,
Secretary.

[FR Doc. E6-19180 Filed 11-13-06; 8:45 am]

BILLING CODE 4915-01-P